FEDERAL RETIREMENT THRIFT INVESTMENT BOARD

Notice of Board Meeting

DATES: November 19, 2021 at 10:00 a.m.

ADDRESSES: Telephonic. Dial-in (listen only) information: Number: 1-415-527-5035, Code: 2764 159 8100; or via web: https://tspmeet.webex.com/tspmeet/onstage/g.php?MTID=ecdb887922475a6e8a36ced6552e9c308.

FOR FURTHER INFORMATION CONTACT: Kimberly Weaver, Director, Office of External Affairs, (202) 942-1640.

SUPPLEMENTARY INFORMATION:

Board Meeting Agenda

Open Session

1. Approval of the October 26, 2021 Board Meeting Minutes

2. Monthly Reports

(a) Participant Activity Report

(b) Investment Performance

(c) Legislative Report

3. Quarterly Report

(d) Metrics

4. 2022 Board Calendar Review

5. Enterprise Risk Management Update

Closed Session

Information covered under 5 U.S.C. 552b (c)(6).

Authority: 5 U.S.C. 552b (e)(1).

Dated: November 5, 2021.
Dharmesh Vashee,
General Counsel, Federal Retirement Thrift Investment Board.

[FR Doc. 2021-24632 Filed 11-10-21; 8:45 am]

BILLING CODE P